DEPARTMENT OF THE INTERIOR

Fish and Wildlife Service

[FWS-R8-ES-2019-N063; FXES11140800000-190-FF08EVEN00]

Draft Categorical Exclusion and Draft General Conservation Plan for Cultivation Activities in Santa Barbara County, California

AGENCY: Fish and Wildlife Service, Interior.

ACTION: Notice of availability; request for comments.

SUMMARY: We, the U.S. Fish and Wildlife Service (Service), announce the availability of a draft general conservation plan (GCP), as well as the associated draft categorical exclusion (CatEx), for cultivation activities in Santa Barbara County, California. The Service developed the GCP in accordance with the Endangered Species Act to provide a streamlined mechanism for proponents engaged in activities associated with agricultural development, to meet statutory and regulatory requirements while promoting conservation of the Santa Barbara County distinct population segment of the California tiger salamander. The Service prepared the draft CatEx in accordance with the National Environmental Policy Act to evaluate the potential effects to the natural and human environment resulting from issuing permits under the GCP. We invite public comment on these documents.

DATES: Written comments should be received on or before September 4, 2019.

ADDRESSES: Obtaining Documents: You may download a copy of the draft GCP and draft CatEx at http://www.fws.gov/ventura/, or you may request copies of the documents by U.S. mail (below) or by phone (see FOR FURTHER INFORMATION CONTACT).

Submitting Written Comments: Please send us your written comments using one of the following methods:

• U.S. mail: Stephen P. Henry, Field Supervisor, Ventura Fish and Wildlife Office, U.S. Fish and Wildlife Service, 2493 Portola Road, Suite B, Ventura, CA 93003.

• Email: sbc-cultivationgcp@fws.gov.

FOR FURTHER INFORMATION CONTACT: Rachel Henry, Fish and Wildlife Biologist, by phone at 805-677-3312, via the Federal Relay Service at 1-800-877-8339 for TTY assistance, or at the Ventura address (see ADDRESSES).

SUPPLEMENTARY INFORMATION: We, the U.S. Fish and Wildlife Service (Service), announce the availability of a draft general conservation plan (GCP), as well as the associated draft categorical exclusion (CatEx), for cultivation activities in Santa Barbara County. We invite public comment on these documents.

Draft General Conservation Plan

The draft GCP was developed by the Service in accordance with section 10(a)(2)(A) of the Endangered Species Act of 1973, as amended (ESA; 16 U.S.C. 1531 et seq.). The GCP meets the issuance criteria as required by section 10(a)(2)(B) of the ESA for issuance of a section 10(a)(1)(B) incidental take permit (ITP). The Service developed the GCP to provide a streamlined mechanism for proponents engaged in in activities associated with the installation and operation of vineyards, crops, and other agricultural development, to meet statutory and regulatory requirements while promoting conservation of the Santa Barbara County distinct population segment (DPS) of the California tiger salamander (Ambystoma californiense). Permits issued under the GCP would authorize incidental take of the Santa Barbara County DPS of the California tiger salamander for up to 20 years after the plan becomes effective.

Draft Categorical Exclusion

The Service prepared the draft CatEx in accordance with the National Environmental Policy Act of 1969 (NEPA; 42 U.S.C. 4321 et seq.) to evaluate the potential effects to the natural and human environment resulting from issuing permits under the GCP.

Background

The Service listed the Santa Barbara County DPS of the California tiger salamander as endangered on September 21, 2000 (65 FR 57242).

Section 9 of the ESA and its implementing regulations prohibit the take of fish or wildlife species listed as endangered or threatened. “Take” is defined under the ESA to include the following activities: “[T]o harass, harm, pursue, hunt, shoot, wound, kill, trap, capture, or collect, or to attempt to engage in any such conduct” (16 U.S.C. 1532); however, under section 10(a)(1)(B) of the ESA, we may issue permits to authorize incidental take of listed species. “Incidental take” is defined by the ESA as take that is incidental to, and not the purpose of, carrying out of an otherwise lawful activity. Regulations governing incidental take permits for threatened and endangered species are in the Code of Federal Regulations (CFR) at 50 CFR 17.32 and 17.22, respectively. Issuance of an incidental take permit also must not jeopardize the existence of federally listed fish, wildlife, or plant species. The permittees would receive assurances under our “No Surprises” regulations ((50 CFR 17.22(b)(5) and 17.32(b)(5)) regarding conservation activities for the Santa Barbara County DPS of the California tiger salamander.

Proposed Action

The proposed action is approval of the GCP and subsequent issuance of permits. The Service prepared the GCP to provide a more efficient and standardized mechanism for proponents in activities associated with the installation and operation of vineyards, crops, and other agricultural development on non-Federal lands. The GCP meets the permit issuance criteria as required by section 10(a)(2)(B) of the ESA and enables the construct of a programmatic permitting and conservation process to address a defined suite of proposed activities over a defined planning area. The proposed GCP would allow private individuals, local and State agencies, and other non-Federal entities to meet the statutory and regulatory requirements of the ESA by applying for permits and complying with the requirements of the GCP, including all applicable avoidance, minimization, and mitigation actions.

The draft CatEx provides the required NEPA documentation for the proposed Federal action, which is approval of a conservation plan and subsequent issuance of permits pursuant to section 10(a)(1)(B) of the ESA. The CatEx also provides baseline environmental information, and a discussion of impacts to the human and natural environment that may occur as a result of implementation of the proposed GCP.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10(c) of the ESA (16 U.S.C. 1531 et seq.) and its implementing regulations (50 CFR 17.22 and 17.32) and NEPA (42 U.S.C. 4321 et seq.) and its implementing regulations (40 CFR 1506.6).

Stephen Henry,
Field Supervisor, Ventura Fish and Wildlife Office, Ventura, California.

[FR Doc. 2019-16626 Filed 8-2-19; 8:45 am]

BILLING CODE 4333-15-P